DEPARTMENT OF LABOR

Occupational Safety and Health Administration

[Docket No. NRTL3-92]

TUV Rheinland of North America, Inc.; Application for Renewal of Recognition

AGENCY: Occupational Safety and Health Administration (OSHA), Labor.

ACTION: Notice.

SUMMARY: This notice announces the application of TUV Rheinland of North America, Inc., for renewal of its recognition as a Nationally Recognized Testing Laboratory (NRTL) under 29 CFR 1910.7, and presents the Agency's preliminary finding. This preliminary finding does not constitute an interim or temporary approval of this application.

DATES: Comments submitted by interested parties, or any request for extension of the time to comment, must be received no later than February 15, 2002.

ADDRESSES: Submit written comments concerning this notice to: Docket Office, Docket NRTL3-92, U.S. Department of Labor, Occupational Safety and Health Administration, Room N2625, 200 Constitution Avenue, NW., Washington, DC 20210; telephone: (202) 693-2350. Commenters may transmit written comments of 10 pages or less in length by facsimile to (202) 693-1648. Submit request for extension of the comment period for this notice to: Office of Technical Programs and Coordination Activities, NRTL Program, Occupational Safety and Health Administration, U.S. Department of Labor, Room N3653, 200 Constitution Avenue, NW., Washington, DC 20210.

FOR FURTHER INFORMATION CONTACT: Bernard Pasquet, Office of Technical Programs and Coordination Activities, NRTL Program, Room N3653 at the above address, or phone (202) 693-2110.

SUPPLEMENTARY INFORMATION:

Notice of Application

The Occupational Safety and Health Administration (OSHA) hereby gives notice that TUV Rheinland of North America, Inc. (TUV), has applied for renewal of its current recognition as a Nationally Recognized Testing Laboratory (NRTL). TUV requests renewal for its existing scope of recognition. OSHA's current scope of recognition for TUV may be found in the following informational Web page: http://www.osha-slc.gov/dts/otpca/nrtl/tuv.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope.

The most recent notice published by OSHA for TUV's recognition covered a modification to its scope of recognition, which became effective on September 12, 2001 (66 FR 47505). The following Federal Register notices related to TUV's recognition have also been published by OSHA to address an expansion of their recognition for additional standards or programs: a request announced on March 2, 2000 (65 FR 11197) and granted on June 8, 2000 (65 FR 39946); requests announced on December 12, 1997 (62 FR 65446) and January 8, 1998 (63 FR 1127) and granted on April 2, 1998 (63 FR 16280).

The current address of the testing facility (site) that OSHA recognizes for TUV is: TUV Rheinland of North America, Inc., 12 Commerce Road, Newtown, Connecticut 06470.

General Background on the Applicant and the Application

TUV Rheinland of North America, Inc., is a privately held Product Safety and Quality Assurance Testing firm with offices throughout the United States and Canada. TUV is wholly owned by TUV Rheinland e. V. of Cologne, Germany. TUV is a U.S. corporation incorporated in the state of Delaware in 1983.

TUV received its recognition as an NRTL on August 16, 1995 (60 FR 42594), for a period of five years ending August 16, 2000. Appendix A to 29 CFR 1910.7 stipulates that the period of recognition of an NRTL is five years and that an NRTL may renew its recognition by applying not less than nine months, nor more than one year, before the expiration date of its current recognition. TUV submitted a request to renew its recognition on November 16, 1999 (see Exhibit 23), within the time allotted, and retains its recognition pending OSHA's final decision in this renewal process.

TUV's request covers only renewal of its existing scope of recognition, which includes the facility listed above, and 126 test standards and 5 supplemental programs.

Test standards

TUV seeks renewal of its recognition for testing and certification of products for demonstration of conformance to the following 126 test standards, all of which OSHA has determined are appropriate, within the meaning of 29 CFR 1910.7(c).

UL 22 Amusement and Gaming Machines

UL 48 Electric Signs

UL 67 Panelboards

UL 73 Motor-Operated Appliances

UL 82 Electric Gardening Appliances

UL 122 Photographic Equipment

UL 130 Electric Heating Pads

UL 136 Pressure Cookers

UL 141 Garment Finishing Appliances

UL 153 Portable Electric Lamps

UL 174 Household Electric Storage Tank Water Heaters

UL 197 Commercial Electric Cooking Appliances

UL 250 Household Refrigerators and Freezers

UL 298 Portable Electric Hand Lamps

UL 430 Waste Disposers

UL 469 Musical Instruments and Accessories

UL 471 Commercial Refrigerators and Freezers

UL 474 Dehumidifiers

UL 482 Portable Sun/Heat Lamps

UL 499 Electric Heating Appliances

UL 506 Specialty Transformers

UL 507 Electric Fans

UL 508 Industrial Control Equipment

UL 508C Power Conversion Equipment

UL 541 Refrigerated Vending Machines

UL 544 Electric Medical and Dental Equipment

UL 561 Floor Finishing Machines

UL 583 Electric-Battery-Powered Industrial Trucks

UL 621 Ice Cream Makers

UL 696 Electric Toys

UL 697 Toy Transformers

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 749 Household Dishwashers

UL 751 Vending Machines

UL 763 Motor-Operated Commercial Food Preparing Machines

UL 775 Graphic Arts Equipment

UL 778 Motor Operated Water Pumps

UL 826 Household Electric Clocks

UL 858 Household Electric Ranges

UL 859 Household Electric Personal Grooming Appliance

UL 867 Electrostatic Air Cleaners

UL 875 Electric Dry Bath Heaters

UL 921 Commercial Electric Dishwashers

UL 923 Microwave Cooking Appliances

UL 935 Fluorescent-Lamp Ballasts

UL 961 Electric Hobby and Sports Equipment

UL 982 Motor-Operated Household Food Preparing Machines

UL 984 Hermetic Refrigerant Motor-Compressors

UL 987 Stationary and Fixed Electric Tools

UL 1004 Electric Motors

UL 1005 Electric Flatirons

UL 1012 Power Units Other than Class Two

UL 1017 Vacuum Cleaning Machines and Blower Cleaners

UL 1018 Electric Aquarium Equipment

UL 1026 Electric Household Cooking and Food-Serving Appliances

UL 1028 Hair Clipping and Shaving Appliances

UL 1042 Electric Baseboard Heating Equipment

UL 1081 Swimming Pool Pumps, Filters and Chlorinators

UL 1082 Household Electric Coffee Makers and Brewing-Type Appliances

UL 1083 Household Electric Skillets and Frying-Type Appliances

UL 1230 Amateur Movie Lights

UL 1236 Battery Chargers for Charging Engine-Starter Batteries

UL 1240 Electric Commercial Clothes-Drying Equipment

UL 1278 Movable and Wall-or Ceiling-Hung Electric Room Heaters

UL 1310 Class 2 Power Units

UL 1409 Low-Voltage Video Products Without Cathode-Ray-Tube Displays

UL 1411 Transformers and Motor Transformers for Use In Audio-, Radio-,and Television-Type Appliances

UL 1418 Implosion-Protected Cathode-Ray Tubes for Television-Type Appliances

UL 1419 Professional Video and Audio Equipment

UL 1431 Personal Hygiene and Health Care Appliances

UL 1445 Electric Water Bed Heaters

UL 1459 Telephone Equipment

UL 1559 Insect-Control Equipment, Electrocution Type

UL 1561 Dry Type General Purpose and Power Transformers

UL 1563 Electric Spas, Equipment Assemblies, and Associated Equipment

UL 1564 Industrial Battery Chargers

UL 1570 Fluorescent Lighting Fixtures

UL 1571 Incandescent Lighting Fixtures

UL 1572 High Intensity Discharge Lighting Fixtures

UL 1573 Stage and Studio Lighting Units

UL 1574 Track Lighting Systems

UL 1585 Class 2 and Class 3 Transformers

UL 1594 Sewing and Cutting Machines

UL 1598 Luminaries

UL 1647 Motor-Operated Massage and Exercise Machines

UL 1693 Electric Radiant Heating Panels and Heating Panel Sets

UL 1727 Commercial Electric Personal Grooming Appliances

UL 1776 High-Pressure Cleaning Machines

UL 1786 Nightlights

UL 1795 Hydromassage Bathtubs

UL 1838 Low Voltage Landscape Lighting Systems

ANSI/UL 1950 Information Technology Equipment Including Electrical Business Equipment

UL 1995 Heating and Cooling Equipment

UL 2021 Fixed and Location-Dedicated Electric Room Heaters

UL 2157 Electric Clothes Washing Machines and Extractors

UL 2158 Electric Clothes Dryers

UL 2601-1 Medical Electrical Equipment; Part 1: General Requirements for Safety

UL 3101-1 Electrical Equipment for Laboratory Use; Part 1: General Requirements

UL 3111-1 Electrical Measuring and Test Equipment; Part 1: General Requirements

UL 3121-1 Process Control Equipment

UL 6500 Audio/Video and Musical Instrument Apparatus for Household, Commercial, and Similar General Use

UL 8730-1 Electrical Controls for Household and Similar Use; Part 1: General Requirements

UL 8730-2-3 Automatic Electrical Controls for Household and Similar Use; Part 2: Particular Requirements for Thermal Motor Protectors for Ballasts for Tubular Fluorescent Lamps

UL 8730-2-4 Automatic Electrical Controls for Household and Similar Use; Part 2: Particular Requirements for Thermal Motor Protectors for Motor Compressors or Hermetic and Semi-Hermetic Type

UL 8730-2-8 Automatic Electrical Controls for Household and Similar Use; Part 2: Particular Requirements for Electrically Operated Water Valves

UL 60335-1 Safety of Household and Similar Electrical Appliances, Part 1; General Requirements

Note—Testing and certification of gas operated equipment is limited to equipment for use with “liquefied petroleum gas” (“LPG” or “LP-Gas”).

The designations and titles of the above test standards were current at the time of the preparation of this notice.

OSHA's recognition of TUV, or any NRTL, for a particular test standard is limited to equipment or materials (i.e., products) for which OSHA standards require third party testing and certification before use in the workplace. Consequently, an NRTL's scope of recognition excludes any product(s) falling within the scope of a test standard for which OSHA has no NRTL testing and certification requirements.

Many of the test standards listed above are approved as American National Standards by the American National Standards Institute (ANSI). However, for convenience in compiling the list, we show the designation of the standards developing organization (e.g., UL 1028) for the standard, as opposed to the ANSI designation (e.g., ANSI/UL 1028). Under our procedures, an NRTL recognized for an ANSI-approved test standard may use either the latest proprietary version of the test standard or the latest ANSI version of that standard, regardless of which version appears in the list of test standards found in OSHA's informational web page for the NRTL. Contact ANSI or the ANSI web site (www.ansi.org) and click “NSSN” to find out whether or not a standard is currently ANSI-approved.

Programs and Procedures

TUV's renewal also would cover use of the supplemental programs listed below. OSHA has described these “supplemental” programs in a March 9, 1995 Federal Register notice (60 FR 12980, 3/9/95). This notice described nine (9) programs and procedures (collectively, programs), eight of which (called supplemental programs) an NRTL may use to control, audit, and accept the data relied upon for product certification. Such data is not normally generated at the NRTL's facility or by NRTL personnel. The notice also includes the criteria for the use by the NRTL of these eight, or supplemental, programs. An NRTL's initial recognition will always include the first or basic program, which requires that all of these activities be performed in-house by the NRTL that will certify the product. OSHA previously granted TUV recognition to use these programs, which currently are listed on OSHA's informational Web page for TUV's recognition (see: http://www.osha-slc.gov/dts/otpca/nrtl/tuv.html)

Program 2: Acceptance of testing data from independent organizations, other than NRTLs.

Program 3: Acceptance of product evaluations from independent organizations, other than NRTLs.

Program 4: Acceptance of witnessed testing data.

Program 8: Acceptance of product evaluations from organizations that function as part of the International Electrotechnical Commission Certification Body (IEC-CB) Scheme.

Program 9: Acceptance of services other than testing or evaluation performed by subcontractors or agents.

OSHA developed these programs to limit how an NRTL may perform certain aspects of its work and to permit the activities covered under a program only when the NRTL meets certain criteria. In this sense, they are special conditions that the Agency places on an NRTL's recognition. OSHA does not consider these programs in determining whether an NRTL meets the requirements for recognition under 29 CFR 1910.7. However, these programs are one of the three elements that define the scope of that recognition.

Existing Condition

Currently, OSHA imposes the following condition on its recognition of TUV as an NRTL. This condition would apply to the renewal of recognition.

TUV must have specific written testing procedures in place before testing products covered by any test standard for which it is recognized and must use these procedures in testing and certifying those products.

Preliminary Finding on the Application

TUV has submitted an acceptable request for renewal of its recognition as an NRTL. While processing this request, OSHA performed an on-site review of TUV's NRTL testing facilities. TUV has addressed any discrepancies noted by the assessor following the on-site evaluation, and the assessor has recommended renewal of TUV's recognition (see Exhibit 24).

Following a review of the application file, the assessor's recommendation, and other pertinent documents, the NRTL Program staff has concluded that OSHA can grant to TUV the renewal of its recognition as an NRTL to use the facilities, test standards, and programs listed above, subject to the condition noted. The staff, therefore, recommended to the Assistant Secretary that the application be preliminarily approved.

Based upon the recommendation of the staff, the Agency has made a preliminary finding that TUV Rheinland of North America, Inc., can meet the requirements, as prescribed by 29 CFR 1910.7, for the renewal of its recognition, subject to the condition noted. This preliminary finding, however, does not constitute an interim or temporary approval of the application.

OSHA welcomes public comments, in sufficient detail, as to whether TUV has met the requirements of 29 CFR 1910.7 for renewal of its recognition as a Nationally Recognized Testing Laboratory. Your comment should consist of pertinent written documents and exhibits. To consider it, OSHA must receive the comment at the address provided above see Addresses) no later than the last date for comments see Dates above). Should you need more time to comment, OSHA must receive your written request for extension at the address provided above (also see Addresses) no later than the last date for comments (also see Dates above). You must include your reason(s) for any request for extension. OSHA will limit an extension to 15 days unless the requester justifies a longer period. We may deny a request for extension if it is frivolous or otherwise unwarranted. You may obtain or review copies of TUV's request, the memo on the recommendation, and all submitted comments, as received, by contacting the Docket Office, Room N2625, Occupational Safety and Health Administration, U.S. Department of Labor, at the above address. You should refer to Docket No. NRTL3-92, the permanent record of public information on TUV's recognition.

The NRTL Program staff will review all timely comments and, after resolution of issues raised by these comments, will recommend whether to grant TUV's application for renewal of recognition. The Agency will make the final decision on granting the renewal and, in making this decision, may undertake other proceedings that are prescribed in Appendix A to 29 CFR Section 1910.7. OSHA will publish a public notice of this final decision in the Federal Register.

Signed at Washington, DC this 17th day of January, 2002.
John L. Henshaw,
Assistant Secretary.

[FR Doc. 02-1934 Filed 1-25-02; 8:45 am]

BILLING CODE 4510-26-P